DEPARTMENT OF ENERGY

Federal Energy Regulatory Commission

[Docket No. CP11-61-000]

Williston Basin Interstate Pipeline Company; Notice of Request Under Blanket Authorization

January 24, 2011.

Take notice that on January 19, 2011, Williston Basin Interstate Pipeline Company (Williston Basin), 1250 West Century Avenue, Bismarck, North Dakota 58503, pursuant to its blanket certificate issued in Docket Nos. CP82-487-000, et al.,¹ filed an application in accordance to sections 157.210 and 157.213(b) of the Commission's Regulations under the Natural Gas Act (NGA) as amended, for the construction and operation of new natural gas storage and transmission facilities located in Fallon County, Montana (Baker Storage Enhancement Project), all as more fully set forth in the application, which is on file with the Commission and open to public inspection.

¹ 30 FERC ¶ 61,143 (1982).

In order to accommodate requests for increased firm storage and transportation services, Williston Basin proposes to drill three additional storage wells, one observation well, and associated storage field pipelines and measurement facilities at its Baker Storage Reservoir. Williston Basin also adds two natural gas-fueled units, rated at 2,370 hp each, at the Monarch Compressor Station; and one natural gas-fueled unit, rated at 1,680 hp, at the Sandstone Creek Compressor Station. The proposed facilities will enhance the deliverability of the Baker Storage Reservoir by 35,000 Mcf/day and provide 7,000 Mcf/day of incremental transportation transfer capacity. The cost of the proposed facilities is approximately $12,355,000. Williston Basin proposes the facilities to be completed and placed into service by November 1, 2011.

Any questions concerning this application may be directed to Keith A. Tiggelaar, Director of Regulatory Affairs, Williston Basin Interstate Pipeline Company, 1250 West Century Avenue, Bismarck, North Dakota 58503, (701) 530-1560, or e-mail at keith.tiggelaar@wbip.com.

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Kimberly D. Bose,
Secretary.

[FR Doc. 2011-2147 Filed 1-31-11; 8:45 am]

BILLING CODE 6717-01-P